DEPARTMENT OF COMMERCE

Department of Commerce: Environmental Industry Innovation Event

AGENCY: International Trade Administration, Department of Commerce.

ACTION: Notice of meeting.

SUMMARY: The U.S. Department of Commerce (DOC) will host a two-hour event in Washington, DC at Department of Commerce headquarters for U.S. government officials and industry participants which will feature examples of new environmental products and services. The purpose of the event is to highlight creativity and innovation in environmental technologies, discuss their importance to the sector, and identify potential policy interactions. The event is called “The New Environmental Industry—New Entrants and Innovation Broaden the Business of Environmental Protection.”

DATES: September 29, 2009; Washington, DC; U.S. Department of Commerce, 14th & Constitution Avenue, NW., Washington, DC 20230; 2 p.m.-4 p.m.

ADDRESSES: To register to attend the event, please e-mail your name, organization, title, and contact information to newenvind@mail.doc.gov. For questions, please contact Marc Lemmond, Office of Energy and Environmental Industries, Room 4053, U.S. Department of Commerce, 14th & Constitution Avenue, NW., Washington, DC 20230; 202-482-3889; marc.lemmond@mail.doc.gov.

SUPPLEMENTARY INFORMATION:

Selection Criteria

The Department invites registrations from interested representatives of the U.S. government, relevant trade associations, and private sector companies.

As industry continues to seek solutions to current environmental issues such as climate change, clean air, and growing water scarcity, U.S. companies from across the industrial spectrum are creating new environmental products and services. Come hear some of the surprising sources of this innovation and discuss potential policy interactions.

Cheryl McQueen,
Acting Director, Office of Energy and Environmental Industries, U.S. Department of Commerce.

[FR Doc. E9-19586 Filed 8-14-09; 8:45 am]

BILLING CODE 3510-DR-P